DEPARTMENT OF HOMELAND SECURITY

Coast Guard

33 CFR Part 117

[Docket No. USCG-2009-0071]

Drawbridge Operation Regulation; Bayou Lacarpe, Mile 7.5, at Houma, Lafourche Parish, LA

AGENCY: Coast Guard, DHS.

ACTION: Notice of temporary deviation from regulations.

SUMMARY: The Commander, Eighth Coast Guard District, has issued a temporary deviation from the regulation governing the operation of the SR 661 Vertical Lift Bridge across Bayou Lacarpe, mile 7.5, at Houma, Lafourche Parish, Louisiana. The deviation is necessary to replace all the wire ropes used to lift the movable span of the bridge. This deviation allows the bridge to remain closed during daytime hours and require an advance notice for openings during the nighttime.

DATES: This deviation is effective from 9 a.m. on February 28, 2009 through 5 p.m. on March 14, 2009.

ADDRESSES: Documents indicated in this preamble as being available in the docket are part of docket USCG-2009-0071 and are available online at www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Eighth Coast Guard District, Bridge Administration Branch, Hale Boggs Federal Building, Room 1313, 500 Poydras Street, New Orleans, Louisiana 70130-3310 between 7 a.m. and 3 p.m., Monday through Friday, except Federal holidays.

FOR FURTHER INFORMATION CONTACT: David Frank, Bridge Administration Branch, telephone (504) 671-2128.

SUPPLEMENTARY INFORMATION: Louisiana Department of Transportation and Development has requested that the State Route 661 Vertical Lift Bridge across Bayou Lacarpe, mile 7.5, at Houma, Lafourche Parish, Louisiana operating schedule be deviated. The vertical clearance of the bridge in the closed position is 3 feet, thus most vessels will not be able to pass underneath this bridge in the closed-to-navigation position. There may be times, during the closure period, when the draw will not be able to open for emergencies. The bridge normally operates in accordance with 33 CFR 117.460 on signal with at least a four hour advance notice except that it need not open on weekdays except holidays from 7 a.m. to 8:30 a.m. and 4:30 p.m. to 6 p.m. This deviation will allow the bridge to remain in the closed-to-navigation position from 9 a.m. to 6 p.m. and will open on signal if at least 24 hour notice is given from 6 p.m. to 9 a.m. starting February 28, 2009 through March 14, 2009. During the closure periods the wire ropes used for lifting the movable span will all be changed. Navigation on the waterway consists of tugs with tows, fishing vessels and recreational craft. Due to prior experience, as well as coordination with waterway users, and an alternate route around either side of the island that this bridge goes to it has been determined that this closure will not have a significant effect on these vessels. A Temporary Deviation was published for this project to start in January but do to unforeseen delays the project will start in February.

In accordance with 33 CFR 117.35(e), the drawbridge must return to its regular operating schedule immediately at the end of the designated time period. This deviation from the operating regulations is authorized under 33 CFR 117.35.

Dated: February 5, 2009.
David M. Frank,
Bridge Administrator.

[FR Doc. E9-3564 Filed 2-19-09; 8:45 am]

BILLING CODE 4910-15-P